DEPARTMENT OF LABOR

Employment and Training Administration

[T-W-37,910]

Mallinckrodt, Incorporated, Nellcor Puritan Bennett, Incorporated, Puritan-Bennett Corporation, Respiratory Division Carlsbad, CA; Amended Certification Regarding Eligibility To Apply for Worker Adjustment Assistance

In accordance with Section 223 of the Trade Act of 1974 (19 U.S.C. 2273) the U.S. Department of Labor issued a Certification of Eligibility to Apply for Worker Adjustment Assistance on October 5, 2000, applicable to workers of Mallinckrodt, Incorporated, Respiratory Division, Carlsbad, California. The notice was published in the Federal Register on November 1, 2000 (FR 65 65330).

At the request of the State agency, the Department reviewed the certification for workers of the subject firm. The workers are engaged in the production of critical care medical equipment. New information provided by the State shows that Nellcor Puritan Bennett, Incorporated and Puritan-Bennett Corporation are business units of Mallinckrodt, Incorporated. New information also shows that workers separated from employment at the subject firm had their wages reported under two separate unemployment insurance (UI) tax accounts: Nellcor Puritan Bennett, Incorporated and Puritan-Bennett Corporation.

Accordingly, the Department is amending the certification to properly reflect this matter.

The intent of the Department's certification is to include all workers of Mallinckrodt, Incorporated, Respiratory Division who were adversely affected by increased imports of critical care medical equipment.

The amended notice applicable to TA-W-37,910 is hereby issued as follows:

All workers of the Mallinckrodt, Incorporated, Nellcor Puritan Bennett, Incorporated, Puritan-Bennett Corporation, Respiratory Division, Carlsbad, California who became totally or partially separated from employment on or after July 5, 1999 through October 5, 2002 are eligible to apply for adjustment assistance under section 223 of the Trade Act of 1974.

Signed at Washington, DC this 29th day of November, 2000.
Linda G. Poole,
Certifying Officer, Division of Trade Adjustment Assistance.

[FR Doc. 00-31816 Filed 12-13-00; 8:45 am]

BILLING CODE 4510-30-M